LEGAL SERVICES CORPORATION

Sunshine Act Meeting of LSC Board of Directors and Its Finance Committee

TIME AND DATE: The Legal Services Corporation (“LSC” or “Corporation”) Board of Directors (“Board”) and its Finance Committee will meet consecutively on September 21, 2010, with the Finance Committee convening at 10 a.m., Eastern Time, and the Board of Directors convening promptly upon adjournment of the committee meeting.

LOCATION: Legal Services Corporation Headquarters, 3rd Floor Conference Center, 3333 K Street, NW., Washington, DC.

STATUS OF MEETING: • Finance Committee—Open.

• Board of Directors—Open, except that a portion of the meeting of the Board of Directors may be closed to the public pursuant to a vote of the Board of Directors to consider and perhaps act on an employee benefits matter and be briefed on internal personnel matters.¹

¹ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(2) and the corresponding provisions of the Legal Services Corporation's implementing regulation, 45 CFR 1622.5(a), will not be made available for public inspection. A copy of the General Counsel's Certification that in his opinion the closing is authorized by law will be made available upon request.

PUBLIC OBSERVATION: For all meetings and portions thereof open to public observation, members of the public that wish to listen to the proceedings may do so by following the telephone call-in directions given below. You are asked to keep your telephone muted to eliminate background noises. From time to time the Chairman may solicit comments from the public.

CALL-IN DIRECTIONS FOR OPEN SESSION(S): ♢ Call toll-free number: 1-(866) 451-4981;

♢ When prompted, enter the following numeric pass code: 5907707348;

♢ When connected to the call, please “MUTE” your telephone immediately.

MATTERS TO BE CONSIDERED:

Finance Committee

Agenda

Open Session

1. Approval of agenda.

2. Approval of minutes of the Committee's meeting of July 31, 2010.

3. Public Comment.

—Robert Stein, on behalf of SCLAID

—Don Saunders, on behalf of NLADA

—Other Public Comments

4. Presentation on Management's Recommendation for LSC's Fiscal Year (“FY”) 2012 Budget Request to Congress.

—Presentation by David Richardson, LSC's Treasurer & Comptroller

—Comments by John Constance, LSC's Director, Office of Government Relations & Public Affairs

—Comments by Jeffrey Schanz, LSC's Inspector General

5. Consider and act on recommending to the Board Resolution 2010-016: A Resolution Adopting LSC's FY 2012 Budget Request to Congress.

6. Other Business.

7. Consider and act on adjournment of meeting.

Board of Directors

Agenda

Open Session

1. Approval of agenda.

2. Approval of minutes of the Board's open session meeting of July 31, 2010.

3. Chairman's Report.

4. Consider and act on the Board Committee Protocol & Self Evaluation Tool.

—Presentation by John Constance, Director, Office of Government Relations & Public Affairs (“GRPA”).

5. Consider and act on Resolution 2010-016: A Resolution Adopting LSC's Fiscal Year 2012 Budget Request to Congress.

—Presentation by David Richardson, LSC's Treasurer & Comptroller.

—Public Comment.

6. Other Business.

7. Consider and act on whether to authorize an executive session of the Board to address items listed below under Closed Session.

Closed Session

7. Consider and act on an employee benefits matter.

—Presentation by Alice Dickerson, Director of LSC's Office of Human Resources (“OHR”) and Linda Mullenbach, Senior Assistant General Counsel with LSC's Office of Legal Affairs (“OLA”)

8. Briefing on internal personnel matters.

—Presentation by Alice Dickerson, Director, of OHR, Linda Mullenbach, Senior Assistant General Counsel of OLA, and Laurie Tarantowicz, Assistant Inspector General & Counsel to LSC's Inspector General

9. Consider and act on adjournment of meeting.

CONTACT PERSON FOR INFORMATION: Kathleen Connors, Executive Assistant to the President, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Kathleen Connors at (202) 295-1500 or FR_NOTICE_QUESTIONS@lsc.gov.

Dated: September 14, 2010.
Patricia D. Batie,
Corporate Secretary.

[FR Doc. 2010-23343 Filed 9-14-10; 4:15 pm]

BILLING CODE 7050-01-P